DEPARTMENT OF LABOR

Employment and Training Administration

[TA-W-41,359]

L. Lawrence Products, Huntingdon Valley, PA; Notice of Termination of Investigation

Pursuant to section 221 of the Trade Act of 1974, an investigation was initiated on April 22, 2002 in response to a petition filed by a company official, on behalf of workers at L. Lawrence Products, Huntingdon Valley, Pennsylvania.

The petitioner has requested that the petition be withdrawn. Consequently, further investigation in this case would serve no purpose, and the investigation has been terminated.

Signed in Washington, DC, this 15th day of July, 2002
Linda G. Poole,
Certifying Officer, Division of Trade Adjustment Assistance.

[FR Doc. 02-19088 Filed 7-26-02; 8:45 am]

BILLING CODE 4510-30-P